INTERNATIONAL TRADE COMMISSION

Public Availability of FY 2018 Service Contracts Inventory Analysis, and Planned Analysis of FY 2019 Service Contracts Inventory

AGENCY: U.S. International Trade Commission.

ACTION: Notice.

SUMMARY: In accordance with Section 743 of Division C of the Consolidated Appropriations Act of 2010, the U.S. International Trade Commission is publishing this notice to advise the public of the availability of the FY 2018 Service Contracts Inventory Analysis, and Planned Analysis of FY 2019 Service Contracts Inventory. The FY 2018 inventory analysis provides information on specific service contract actions that were analyzed. The 2018 inventory provides information on service contract actions over $25,000, which were made in FY 2018. The inventory information is organized by function to show how contracted resources are distributed throughout the agency. The inventory has been developed in accordance with guidance issued on November 5, 2010 and December 19, 2011, by the Office of Management and Budget's Office of Federal Procurement Policy (OFPP). OFPP's guidance is available at https://www.whitehouse.gov/sites/whitehouse.gov/files/omb/procurement/memo/service-contract-inventory-guidance.pdf. The FY 2019 inventory planned analysis provides information on which functional areas will be reviewed by the agency. The U. S International Trade Commission has posted its FY 2018 inventory, FY 2019 planned analysis at the following link: https://www.usitc.gov/offices/procurement.

FOR FURTHER INFORMATION CONTACT: Questions regarding the service contract inventory should be directed to Debra Bridge, U. S. International Trade Commission, Office of Procurement, 500 E Street SW, Washington, DC 20436; debra.bridge@usitc.gov; (202) 205-2004.

By order of the Commission.
Issued: July 1, 2021.
Lisa Barton,
Secretary to the Commission.

[FR Doc. 2021-14503 Filed 7-7-21; 8:45 am]

BILLING CODE 7020-02-P